DEPARTMENT OF HOUSING AND URBAN DEVELOPMENT

[Docket No. FR-6270-N-03]

Notice of a Federal Advisory Committee Meeting: Manufactured Housing Consensus Committee

AGENCY: Office of the Assistant Secretary for Housing—Federal Housing Commissioner, Department of Housing and Urban Development (HUD).

ACTION: Notice of Federal Advisory Committee meeting: Manufactured Housing Consensus Committee.

SUMMARY: This notice sets forth the schedule and proposed agenda for a Manufactured Housing Consensus Committee teleconference meeting. The meeting is open to the public. The agenda for the meeting provides an opportunity for citizens to comment on the business before the MHCC.

DATES: Friday, November 19, 2021, 10:00 a.m. to 4:00 p.m. Eastern Standard Time (EST). The teleconference number is: 301-715-8592 or 646-558-8656 and the Meeting ID is: 81468510702. To access the webinar, use the following link: https://us06web.zoom.us/j/81468510702.

FOR FURTHER INFORMATION CONTACT: Teresa B. Payne, Administrator, Office of Manufactured Housing Programs, Department of Housing and Urban Development, 451 7th Street SW, Room 9166, Washington, DC 20410, telephone 202-402-2698 (this is not a toll-free number). Persons who have difficulty hearing or speaking may access this number via TTY by calling the Federal Relay Service at 800-877-8339 (this is a toll-free number).

SUPPLEMENTARY INFORMATION: Notice of the meeting is provided in accordance with the Federal Advisory Committee Act, 5 U.S.C. app. 10(a)(2) through implementing regulations at 41 CFR 102-3.150. The MHCC was established by the National Manufactured Housing Construction and Safety Standards Act of 1974, 42 U.S.C. 5403(a)(3), as amended by the Manufactured Housing Improvement Act of 2000, (Pub. L. 106-569, sec. 601, et seq.). According to 42 U.S.C. 5403, as amended, the MHCC's purposes are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b); and

• Be organized and carry out its business in a manner that guarantees a fair opportunity for the expression and consideration of various positions and for public participation.

The MHCC is deemed an advisory committee not composed of Federal employees.

Public Comment: Citizens wishing to make comments on the MHCC's business must register in advance by contacting the Administering Organization (AO), Home Innovation Research Labs; Attention: Kevin Kauffman, 400 Prince Georges Blvd., Upper Marlboro, MD 20774; by emailing mhcc@homeinnovation.com; or calling 888-602-4663. With advance registration, members of the public will have an opportunity to provide written comments relative to agenda topics for the Committee's consideration. All written comments must be provided to mhcc@homeinnovation.com no later than November 12, 2021.

Please note that written comments submitted will not be read during the meeting, but will be provided to the MHCC members prior to the meeting. The MHCC will also provide an opportunity for oral public comments on specific matters before the MHCC at each meeting. The total amount of time for oral comments will be 30 minutes, in two 15-minute periods, with each commenter limited to two minutes to ensure pertinent MHCC business is completed and all public comments can be expressed. The MHCC will not respond to individual written or oral statements; however, it will take all public comments into account in its deliberations. The MHCC strives to accommodate citizen comments to the extent possible within the meeting agenda's time constraints.

Tentative Agenda for MHCC Teleconference

Friday, November 19, 2021—10 a.m. to 4 p.m. ET

I. Call to Order and Roll Call

II. Opening Remarks—MHCC Chair & Designated Federal Officer (DFO)

III. Approval of draft minutes from September 23, 2021, October 8, 2021, and October 21, 2021, MHCC teleconference meetings

IV. Public Comment Period—15 minutes

V. Discussion of Department of Energy's Notice of Data Availability related to the Supplemental Notice of Proposed Rulemaking and Request for Comment—Energy Conservation Standards for Manufactured Housing and Prepare Comments for HUD's consideration

VI. Lunch from 12:30 p.m. to 1:30 p.m.

VII. Continued Discussion of Supplemental Notice of Proposed Rulemaking and Request for Comments—Energy Conservation Standards for Manufactured Housing and Prepare Comments for HUD's consideration

VIII. Public Comment Period—15 minutes

IX. Wrap Up—DFO & AO

X. Adjourn

Janet Golrick,
Acting, Chief of Staff, Office of Housing—Federal Housing Administration.

[FR Doc. 2021-23646 Filed 10-28-21; 8:45 am]

BILLING CODE 4210-67-P